DEPARTMENT OF EDUCATION

Applications for New Awards; Developing Hispanic-Serving Institutions Program

AGENCY: Office of Postsecondary Education, Department of Education.

ACTION: Notice; correction.

SUMMARY: On December 27, 2019, we published in the Federal Register a notice inviting applications for the Developing Hispanic Serving Institutions (DHSI) Program for fiscal year (FY) 2020. This notice revises the deadline for transmittal of applications and the deadline for intergovernmental review. All other requirements and conditions in the notice remain the same.

DATES: The correction is applicable January 28, 2020.

Deadline for Transmittal of Applications: February 24, 2020.

Deadline for Intergovernmental Review: April 24, 2020.

FOR FURTHER INFORMATION CONTACT: Njeri Clark, U.S. Department of Education, 400 Maryland Avenue SW, Room 260-14, Washington, DC 20202-4260. Telephone: (202) 453-6224. Email: Njeri.Clark@ed.gov.

If you use a telecommunications device for the deaf (TDD) or a text telephone (TTY), call the Federal Relay Service (FRS), toll free, at 1-800-877-8339.

SUPPLEMENTARY INFORMATION: On December 27, 2019, we published in the Federal Register a notice inviting applications for the DHSI Program (84 FR 71395). This notice revises the deadline for transmittal of applications and the deadline for intergovernmental review. All other requirements and conditions in the notice remain the same.

Correction

In FR Doc. 2019-27984, in the Federal Register of December 27, 2019, we make the following revisions:

(a) On page 71395, in the middle column, under Dates and after “Deadline for Transmittal of Applications”, we remove the date “February 10, 2020” and replace it with the date “February 24, 2020”.

(b) On page 71395, in the middle column, under Dates and after “Deadline for Intergovernmental Review”, we remove the date “April 10, 2020” and replace it with the date “April 24, 2020”.

Accessible Format: Individuals with disabilities can obtain this notice and a copy of the application in an accessible format (e.g., braille, large print, audio tape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Robert L. King,
Assistant Secretary for the Office of Postsecondary Education.

[FR Doc. 2020-01462 Filed 1-27-20; 8:45 am]

BILLING CODE 4000-01-P